ENVIRONMENTAL PROTECTION AGENCY

[EPA-HQ-OW-2007-1197; FRL-8685-7]

Agency Information Collection Activities; Submission to OMB for Review and Approval; Proposed Collection; Comment Request; Disinfectants/Disinfection Byproducts, Chemical and Radionuclides Rules (Renewal); EPA ICR No. 1896.08, OMB Control No. 2040-0204

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 28, 2008.

ADDRESSES: Submit your comments, referencing Docket ID No. EPA-HQ-OW-2007-1197 to (1) EPA online using http://www.regulations.gov (our preferred method), by e-mail to OW-Docket@epa.gov, or by mail to: EPA Docket Center, Environmental Protection Agency, Water Docket, MC: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Richard Naylor, Drinking Water Protection Division, Office of Ground Water and Drinking Water (4606M), Environmental Protection Agency, 1200 Pennsylvania Ave., NW., Washington, DC 20460; telephone number: 202-564-3847; fax number: 202-564-3755; e-mail address: naylor.richard@epa.gov.

SUPPLEMENTARY INFORMATION: EPA has submitted the following ICR to OMB for review and approval according to the procedures prescribed in 5 CFR 1320.12. On February 15, 2008 (73 FR 8865), EPA sought comments on this ICR pursuant to 5 CFR 1320.8(d). EPA received two comments during the comment period, which are addressed in the ICR. Any additional comments on this ICR should be submitted to EPA and OMB within 30 days of this notice.

EPA has established a public docket for this ICR under Docket ID No. EPA-HQ-OW-2007-1197, which is available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Disinfectants/Disinfection Byproducts, Chemical, and Radionuclides Rule (Renewal).

ICR numbers: EPA ICR No. 1896.08, OMB Control No. 2040-0204.

ICR Status: This ICR is scheduled to expire on June 30, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Disinfectants/Disinfection Byproducts, Chemical and Radionuclides Rules ICR examines public water system (PWS), primacy agency and EPA burden and costs for recordkeeping and reporting requirements in support of the chemical drinking water regulations. These recordkeeping and reporting requirements are mandatory for compliance with 40 CFR parts 141 and 142. The following chemical regulations are included: Stage 1 Disinfectants and Disinfection Byproducts Rule (Stage 1 DBPR), Stage 2 Disinfectants and Disinfection Byproducts Rule (Stage 2 DBPR), Chemical Phase Rules (Phases II/IIB/V), 1976 Radionuclides Rule and 2000 Radionuclides Rule, Total Trihalomethanes (TTHM) Rule, Disinfectant Residual Monitoring and Associated Activities under the Surface Water Treatment Rule, Arsenic Rule, Lead and Copper Rule (LCR) and revisions. Future chemical-related rulemakings, such as Radon, will be added to this consolidated ICR after the regulations are finalized and the initial, rule-specific ICRs are due to expire.

Burden Statement: The annual public reporting and recordkeeping burden for this collection of information is estimated to average 0.48 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: New and existing public water systems (PWSs), primacy agencies.

Estimated Number of Respondents: 155,750.

Frequency of Response: varies by requirement (i.e., on occasion, monthly, quarterly, semi-annually, annually, biennially, and every 3, 6, and 9 years).

Estimated Total Annual Hour Burden: 6,119,259.

Estimated Total Annual Cost: $452,688,716, includes $240,118,273 annualized capital or O&M costs.

Changes in the Estimates: There is a decrease of 604,910 hours in the total estimated burden currently identified in the OMB Inventory of Approved ICR Burdens. This decrease is primarily attributable to the use of updated system inventories and entry points per system to calculate monitoring costs.

Dated: June 20, 2008.
Sara Hisel-McCoy,
Director, Collection Strategies Division.

[FR Doc. E8-14522 Filed 6-25-08; 8:45 am]

BILLING CODE 6560-50-P